DEPARTMENT OF DEFENSE

Department of the Air Force

Notice of Federal Advisory Committee meeting

AGENCY: Department of the Air Force, Board of Visitors of the U.S. Air Force Academy.

ACTION: Notice of Federal Advisory Committee meeting.

SUMMARY: The Department of Defense (DoD) is publishing this notice to announce that the following Federal Advisory Committee meeting of the Board of Visitors (BoV) of the U.S. Air Force Academy (USAFA) will take place.

DATES: Open to the public virtually Wednesday, November 18, 2020 from 9:00 a.m. to 5:00 p.m. (Eastern Time).

ADDRESSES: The virtual meeting can be accessed at the following link: https://www.usafa.edu/about/bov/. This link will be active thirty minutes before the start of the meeting.

FOR FURTHER INFORMATION CONTACT: Lt. Col. Harvey Catchings, (703) 614-6831, harvey.catchings@us.af.mil, 1040 Air Force Pentagon, Washington, DC 20330-1040 or Mr. Anthony R. McDonald, (DFO), (703) 693-9309, (703) 693-4244 (Facsimile), anthony.mcdonald@us.af.mil. Website: https://www.usafa.edu/about/bov/. The site contains information on the Board of Visitors, link to the virtual meeting, and meeting agenda.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to review morale and discipline, social climate, athletics, diversity, curriculum and other matters relating to the U.S. Air Force Academy. The meeting will address topics across the Academy including updates from the Academy Superintendent, Commandant, Dean, and Athletics Department. Furthermore, there will be presentations on the Air Force Academy's Performance Metrics; Budget; Sexual Assault Prevention program; IT Infrastructure Report to Congress, and Manpower Issues & Specialty Selection Process. This meeting will be open to the public but held by virtual means as noted above.

Written Statements: Any member of the public wishing to provide input to the Board of Visitors of the U.S. Air Force Academy, should submit a written statement in accordance with 41 CFR 102-3.105(j) and § 102-3.140 and Sec. 10(a)(3) of the FACA. The public or interested organizations may submit written comments or statements to the BoV about its mission and/or the topics to be addressed in the open sessions of this public meeting. Written comments or statements should be submitted to the BoV Executive Secretary, Lt. Col. Harvey Catchings, via electronic mail, the preferred mode of submission, at the email address listed in the FOR FURTHER INFORMATION CONTACT section in the following formats: Adobe Acrobat or Microsoft Word. The comment or statement must include the author's name, title affiliation, address, and daytime telephone number. Written comments or statements being submitted in response to the agenda set forth in this notice must be received by the BoV Executive Secretary at least five (5) business days (November 11, 2020) prior to the meeting so they may be made available to the BoV Chairman for consideration prior to the meeting. Written comments or statements received after this date (November 11, 2020) may not be provided to the BoV until its next meeting. Please note that because the BoV operates under the provisions of the FACA, as amended, all written comments will be treated as public documents and will be made available for public inspection.

Verbal Comments: Members of the public will be permitted to make verbal comments during the open session of the meeting only at the time and in the manner allowed herein. If a member of the public is interested in making a verbal comment at the open session of the meeting, that individual must submit a request, with a brief statement of the subject matter to be addressed by the comment, at least three (3) business days (November 13, 2020) in advance, via electronic mail, the preferred mode of submission, at the email address(es) listed in the FOR FURTHER INFORMATION CONTACT section. The request for comment must include the individual's name, title affiliation, address, and daytime telephone number. The BoV DFO will log each request to make a comment, in the order received, and the DFO and BoV Chairman will determine whether the subject matter of each comment is relevant to the BoV's mission and/or topics to be addressed in this public meeting. A period near the end of the meeting (open session) will be available for verbal public comments. Members of the public who have requested to make a verbal comment and whose comments have been deemed relevant under the process described in this paragraph, will be allotted no more than five (5) minutes during this period, and will be invited to speak in the order in which their requests were received by the DFO. For the benefit of the public, rosters that list the names of BoV members and any releasable materials presented during the BoV meeting shall be made available upon request.

Adriane Paris,
Acting Air Force Federal Register Liaison Officer.

[FR Doc. 2020-23347 Filed 10-21-20; 8:45 am]

BILLING CODE 5001-10-P